DEPARTMENT OF THE INTERIOR

Fish and Wildlife Service

Notice of Receipt of Applications for Permit

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address below) and must be received within 30 days of the date of this notice.

Applicant: Jeffrey L. Meyerl, Mars, PA, PRT-050657.

The applicant requests a permit to import the sport-hunted trophy of one male bontebok (Damaliscus pygargus dorcas) culled from a captive herd maintained under the management program of the Republic of South Africa, for the purpose of enhancement of the survival of the species.

Applicant: Jonathan Evans, Littleton, CO, PRT-050612.

The applicant requests a permit to import the sport-hunted trophy of one male bontebok (Damaliscus pygargus dorcas) culled from a captive herd maintained under the management program of the Republic of South Africa, for the purpose of enhancement of the survival of the species.

Applicant: George Carden Circus Intl., Inc., Springfield, MO, PRT-784521.

The applicant requests the re-issuance of its permit to re-export and re-import Asian elephants (Elephas maximus) and progeny of the animals currently held by the applicant and any animals acquired in the United States by the applicant to/from worldwide locations to enhance the survival of the species through conservation education. This notification covers activities conducted by the applicant over a three year period.

Applicant: Rick Thomas, dba Thomas Production, Las Vegas, NV, PRT-037177.

The applicant requests a permit to export and re-import captive-born tigers (Panthera tigris) and progeny of the animals currently held by the applicant and any animals acquired in the United States by the applicant to/from worldwide locations to enhance the survival of the species through conservation education. This notification covers activities conducted by the applicant over a three year period.

Applicant: Miller Equipment Company, Inc. dba Carson Barnes Circus, Hugo, OK, PRT—050703 & 050708.

The applicant requests a permit to re-export and re-import Asian elephants (Elephas maximus) and progeny of the animals currently held by the applicant and any animals acquired in the United States by the applicant to/from worldwide locations to enhance the survival of the species through conservation education. This notification covers activities conducted by the applicant over a three year period.

Applicant: U.S. Geological Survey, College Station, TX, PRT-050834.

The applicant requests a permit to import 50 non-viable eggs/egg shells of Aplomado falcons (Falco femoralis septentrionalis) from Mexico for the purpose of scientific research.

Applicant: International Center for Gibbon Studies, Santa Clarita, CA, PRT-048712.

The applicant requests a permit to import 1.1 hoolock gibbons (Hylobates hoolock) of wild origin from the Yangon Zoological Garden, Myanmar, for the purpose of scientific research and enhancement of the propagation of the species and enhancement of the survival of the species through conservation education.

Applicant: New Marine World Foundation, Vallejo, CA, PRT-048985.

The applicant requests a permit to import 0.2 Asian elephants (Elephas maximus) of captive bred origin from India for the purpose of scientific research and enhancement of the propagation of the species.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: December 7, 2001.
Monica Farris,
Senior Permit Biologist, Branch of Permits, Division of Management Authority.

[FR Doc. 01-30995 Filed 12-14-01; 8:45 am]

BILLING CODE 4310-55-P